DEPARTMENT OF HOUSING AND URBAN DEVELOPMENT

24 CFR Parts 5, 91, 92, 570, 574, 576, and 903

[Docket No. FR-6519-I-01]

RIN 2529-AB08

Affirmatively Furthering Fair Housing Revisions

AGENCY: Office of the Secretary, U.S. Department of Housing and Urban Development (HUD).

ACTION: Interim final rule; request for comments.

SUMMARY: This interim final rule revises HUD's regulation governing the Fair Housing Act's mandate that the Secretary administer HUD's program and activities in a manner that affirmatively furthers fair housing. This interim final rule returns to the original understanding of what the statutory AFFH certification was prior to 1994—a general commitment that grantees will take active steps to promote fair housing. Grantee AFFH certifications will be deemed sufficient provided they took any action during the relevant period rationally related to promoting fair housing, such as helping eliminate housing discrimination. This interim final rule does not, however, reinstate the obligation to conduct an Analysis of Impediments or mandate any specific fair housing planning mechanism; program participants must continue to affirmatively further fair housing as and to the extent required by the Fair Housing Act.

DATES:

Effective date: April 2, 2025.

Comment due date: May 2, 2025.

ADDRESSES: Interested persons are invited to submit comments regarding this rule. All submissions must refer to the docket number and title. There are two methods for submitting public comments.

1. Electronic Submission of Comments. Interested persons may submit comments electronically through the Federal eRulemaking Portal at http://www.regulations.gov.

2. Submission of Comments by Mail. Comments may be submitted by mail to the Regulations Division, Office of General Counsel, Department of Housing and Urban Development, 451 7th Street SW, Room 10276, Washington, DC 20410-0500.

FOR FURTHER INFORMATION CONTACT: Andrew Hughes, Chief of Staff, or Brian Miller, Acting General Counsel, U.S. Department of Housing and Urban Development, 451 7th Street SW, Washington, DC 20410; telephone number 202-402-2244 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

History of AFFH Rulemaking

In 1994, HUD promulgated a rule dictating that a grantee would fulfill its AFFH obligation by conducting an analysis of “impediments to fair housing choice within its jurisdiction” and “taking appropriate actions to overcome the effects of any impediments.” ¹ In 1996, HUD issued a 170-page guidance document titled, “HUD Fair Housing Planning Gude” to explain further the meaning of the four-word phrase “affirmatively further fair housing.”

¹ See https://www.federalregister.gov/documents/1994/08/05/94-18705/consolidated-submission-for-community-planning-and-development-program.

On July 16, 2015, at 80 FR 42357, HUD published in the Federal Register HUD's Affirmatively Furthering Fair Housing (AFFH) final rule. The 2015 final rule required HUD program participants to undertake an expansive new approach for planning for fair housing outcomes consistent with the Obama Administration's vision of centralized direction of community planning, purporting to act under the statutory obligation to affirmatively further fair housing under the Fair Housing Act, 42 U.S.C. 3608. Ostensibly to assist HUD program participants in meeting this obligation, the 2015 final rule required program participants to conduct an Assessment of Fair Housing (“AFH”) using an “Assessment Tool.” HUD's 2015 final rule provided for a staggered AFH submission deadline for its program participants. HUD issued a Federal Register notice extending those deadlines for consolidated plan program participants on January 5, 2018 (83 FR 683).

HUD subsequently published three Federal Register notices on May 23, 2018, one of which withdrew the Assessment Tool for Local Governments, the only HUD-provided Assessment Tool then available for program participants to use when conducting an AFH (83 FR 23922). As explained in a second Federal Register notice published the same day, HUD directed all program participants who had not yet completed an AFH that they would continue to be required to conduct an “Analysis of Impediments” (AI) under previously issued sub-regulatory guidance (83 FR 23927). The third Federal Register notice withdrew the notice extending the submission deadline for an Assessment of Fair Housing (AFH) by local government consolidated plan program participants (83 FR 23928). HUD published a proposed rule on January 14, 2020 (85 FR 2041), to repeal and replace the 2015 final rule. On August 7, 2020, at 85 FR 47899, HUD withdrew that proposed rule and instead promulgated a final rule (Preserving Community and Neighborhood Choice (“PCNC”)), which repealed the 2015 final rule. The 2020 PCNC final rule thus eliminated substantial regulatory burdens on program participants and simplified the definition of the AFFH obligation to which funding recipients must certify.

On June 10, 2021 (86 FR 30779), HUD withdrew the 2020 PCNC final rule via issuance of an interim final rule. The 2021 interim final rule restored some elements of the 2015 final rule. Elements of the 2015 final rule related to the creation and submission of Assessments of Fair Housing that were removed by the PCNC final rule were not restored by the 2021 interim final rule, but the 2021 IFR did reinstate the requirement to certify that participants are fulfilling their obligation to AFFH consistent with the definition of AFFH restored by the 2021 rule. Finally, on February 9, 2023, HUD published a proposed rule (88 FR 8516), incorporating parts of, and expanding upon, the 2021 interim final rule, including elements of the 2015 final rule (but not the AFH). That proposed rule was withdrawn on January 16, 2025 (90 FR 4686). Thus, the rule currently in effect is the 2021 interim final rule published on June 10, 2021.

Justification for This Interim Final Rule

Thirty years of expansive back and forth rulemaking over vague statutory directives is the epitome of regulatory overreach. HUD's 2020 PCNC final rule, while taking into account a number of considerations, as detailed in the notice thereof and incorporated herein, fairly targeted and reined in this overreach. Less effort and money spent across thousands of state and local jurisdictions attempting to validate community planning theories can mean more affordable and better housing for Americans. This interim final rule follows the directive of, and is consistent with, Executive Order 14192 (Unleashing Prosperity Through Deregulation).

This interim final rule is narrowly focused to meet the urgent need to reset the tangle of rulemaking concerning AFFH, which promotes confusion and creates enormous costs that detract from the ability of thousands of state and local jurisdictions to provide decent, safe and affordable housing. It is relevant that in the past 30 years, no notable enforcement action by HUD has been based solely upon the failure of a local jurisdiction to meet AFFH obligations.

III. This Interim Final Rule

This interim final rule repeals the 2021 interim final rule, including any parts of the 2015 AFFH Rule incorporated therein, and the 1994 AI requirements where they appear in regulation or guidance. Thus, it returns to the original understanding of what the statutory AFFH certification was prior to 1994—a general commitment that grantees will take active steps to promote fair housing. Grantee AFFH certifications will be deemed sufficient provided they took any action during the relevant period rationally related to promoting fair housing, such as helping to eliminate housing discrimination.

In issuing this interim rule, HUD has reconsidered the need for §§ 91.205(b)(2) and 91.305(b)(2). These paragraphs require that local and state governments, respectively, compare whether the needs of any racial or ethnic group are disproportionately greater than the needs of the categories enumerated by §§ 91.205(b)(1) and 91.305(b)(1). Removing these requirements is consistent with the administration's view that under the Fair Housing Act HUD should ensure against housing discrimination based on all protected classes and not provide preferences based on racial or ethnic characteristics. Moreover, removing these requirements gives local communities maximum flexibility in designing and implementing sound policies responsive to unique local needs, and eliminates overly burdensome, intrusive and inconsistent reporting and monitoring requirements.

This interim final rule also makes conforming amendments to the certifications in the relevant HUD program regulations at 24 CFR 91.225, 91.325, 91.425, 570.487, and 903.7. Amendments to 24 CFR parts 92, 570, 574, and 576 include updated cross-references and clarification of program participants in the HOME, Community Development Block Grant (CDBG), Housing Opportunities for Persons With AIDS (HOPWA), and Emergency Solutions Grants programs. In a similar manner, this interim final rule amends 24 CFR 903.7(o), 903.15, and 903.23(f) to update cross-references to the amended definitions and certification provisions in 24 CFR 5.151 and 5.152.

HUD invites public comment for a period of 60 days. HUD will consider all comments received in its ongoing process of reviewing this interim final rule for consistency with recent Supreme Court decisions (see Loper Bright Enterprises v. Raimondo, 603 U.S. 369 (2024); West Virginia v. Environmental Protection Agency, 597 U.S. 697 (2022); and Students for Fair Admissions, Inc. v. President and Fellows of Harvard College, 600 U.S. 181 (2023)) and HUD's statutory authority. HUD will also consider all comments received as it continues to broadly reconsider the appropriate implementation of the affirmatively furthering fair housing mandate.

IV. Justification for Interim Rule

The Administrative Procedure Act exempts from notice-and-comment rulemaking any “matter relating to agency management or personnel or to public property, loans, grants, benefits, or contracts.” 5 U.S.C. 553(a)(2). Because this rule applies only to the AFFH obligation of grantees, it would have been exempt under the APA.

However, in 1969 the Administrative Conference of the United States (ACUS) urged Congress to amend the APA to remove this exemption. Congress declined. Still, several agencies, including HUD, issued regulations codifying this policy. See 24 CFR 10.1. HUD's regulation still remains in force, but 24 CFR 10.1 also provides that advance public notice and comment may be omitted if the Department determines that notice and public comment are impracticable, unnecessary or contrary to the public interest.

Advance public notice and comment is unnecessary and does not serve the public interest in this case because AFFH has already been the subject of extensive public debate. Over the past several years, HUD has received extensive public feedback about AFFH. HUD has received tens of thousands of comments covering a wide range of stakeholders, including public housing agencies, other housing providers, organizations representative of housing providers, governmental jurisdictions and agencies, civil rights organizations, tenant and other housing advocacy organizations, and concerned citizens. There has also been a thorough public debate on these issues in print and online. In light of this public engagement, further notice and comment concerning AFFH is unnecessary and would simply be a formality without adding substance to the debate.

V. Findings and Certifications

Regulatory Review (Executive Orders 12866 and 13563)

Pursuant to Executive Order 12866 (Regulatory Planning and Review), a determination must be made whether a regulatory action is significant and therefore, subject to review by the Office of Management and Budget (OMB) in accordance with the requirements of the Executive Order. This interim final rule has been determined to be a “significant regulatory action,” as defined in section 3(f) of Executive Order 12866, but not economically significant.

Executive Order 13563 (Improving Regulations and Regulatory Review) directs executive agencies to analyze regulations that are “outmoded, ineffective, insufficient, or excessively burdensome, and to modify, streamline, expand, or repeal them in accordance with what has been learned.” Executive Order 13563 also directs that, where relevant, feasible, and consistent with regulatory objectives, and to the extent permitted by law, agencies are to identify and consider regulatory approaches that reduce burdens and maintain flexibility and freedom of choice for the public. This final rule will provide maximum flexibility and freedom for HUD grantees to affirmatively further fair housing and is consistent with Executive Order 13563.

Regulatory Costs (Executive Order 14192)

Executive Order 14192, entitled “Unleashing Prosperity Through Deregulation,” was issued on January 31, 2025. Section 3(c) of Executive Order 14192 requires that any new incremental costs associated with new regulations shall, to the extent permitted by law, be offset by the elimination of existing costs associated with at least 10 prior regulations. OMB has determined that this interim final rule reduces the reporting burden for jurisdictions in the formulation of AFFH strategies and therefore is a repeal of a regulation that results in reduced regulatory costs for purposes of Executive Order 14192.

Federalism (Executive Order 13132)

Executive Order 13132 (entitled “Federalism”) prohibits an agency from publishing any rule that has federalism implications if the rule either: imposes substantial direct compliance costs on State and local governments and is not required by statute; or the rule preempts state law, unless the agency meets the consultation and funding requirements of section 6 of the Executive Order. This interim final rule does not have federalism implications and does not impose substantial direct compliance costs on state and local governments nor preempt state law within the meaning of the Executive Order.

Environmental Impact

This interim final rule is a policy document that sets out nondiscrimination standards. Accordingly, under 24 CFR 50.19(c)(3), this rule is categorically excluded from environmental review under the National Environmental Policy Act (42 U.S.C. 4321).

Regulatory Flexibility Act

The Regulatory Flexibility Act (5 U.S.C. 601 et seq.) (RFA) generally requires an agency to conduct a regulatory flexibility analysis of any rule subject to notice and comment rulemaking requirements, unless the agency certifies that the rule will not have a significant economic impact on a substantial number of small entities. Because HUD has determined that good cause exists to issue this rule without prior public comment, this rule is not subject to the requirement to publish an initial or final regulatory flexibility analysis under the RFA as part of such action.

Paperwork Reduction Act

In accordance with the Paperwork Reduction Act of 1995 (44 U.S.C. 3501-3520), an agency may not conduct or sponsor, and a person is not required to respond to, a collection of information, unless the collection displays a currently valid Office of Management and Budget (OMB) control number. The information collection requirements for Affirmatively Furthering Fair Housing collected have previously been approved by OMB under the Paperwork Reduction Act and assigned OMB control number 2506-0117 (Consolidated Plan, Annual Action Plan & Annual Performance Report).

Unfunded Mandates Reform Act

Title II of the Unfunded Mandates Reform Act of 1995 (Pub. L. 104-4; approved March 22, 1995) (UMRA) establishes requirements for Federal agencies to assess the effects of their regulatory actions on state, local, and tribal governments, and on the private sector. This rule does not impose any Federal mandates on any state, local, or tribal government, or on the private sector, within the meaning of the UMRA.

VI. Electronic Access and Filing

Comments submitted electronically through the http://www.regulations.gov website can be viewed by other commenters and interested members of the public. Commenters should follow the instructions provided on that site to submit comments electronically.

All comments and communications properly submitted to HUD will be available for public inspection and copying between 8 a.m. and 5 p.m. weekdays at the above address. Due to security measures at the HUD Headquarters building, an advance appointment to review the public comments must be scheduled by calling the Regulations Division at (202) 708-3055 (this is not a toll-free number). HUD welcomes and is prepared to receive calls from individuals who are deaf or hard of hearing, as well as from individuals with speech or communication disabilities. To learn more about how to make an accessible telephone call, please visit https://www.fcc.gov/consumers/guides/telecommunications-relay-service-trs.

Lists of Subjects

24 CFR Part 5

Administrative practice and procedure; Aged; Claims; Crime; Government contracts; Grant programs—housing and community development; Individuals with disabilities; Intergovernmental relations; Loan programs—housing and community development; Low and moderate income housing; Mortgage insurance; Penalties; Pets; Public housing; Rent subsidies; Reporting and recordkeeping requirements; Social security; Unemployment compensation; Wages.

24 CFR Part 91

Aged; Grant programs—housing and community development; Homeless; Individuals with disabilities; Low and moderate income housing; Reporting and recordkeeping requirements.

24 CFR Part 92

Administrative practice and procedure; Low and moderate income housing; Manufactured homes; Rent subsidies; Reporting and recordkeeping requirements.

24 CFR Part 570

Administrative practice and procedure; American Samoa; Community development block grants; Grant programs—education; Grant programs—housing and community development; Guam; Indians; Loan programs—housing and community development; Low and moderate income housing; Northern Mariana Islands; Pacific Islands Trust Territory; Puerto Rico; Reporting and recordkeeping requirements; Student aid; Virgin Islands.

24 CFR Part 574

Community facilities; Grant programs—housing and community development; Grant programs—social programs; HIV/AIDS; Low- and moderate-income housing; Reporting and recordkeeping requirements.

24 CFR Part 576

Community facilities; Grant programs—housing and community development; Grant programs—social programs; Homeless; Reporting and recordkeeping requirements

24 CFR Part 903

Administrative practice and procedure; Public housing; Reporting and recordkeeping requirements.

Accordingly, for the reasons described in the preamble, HUD amends 24 CFR parts 5, 91, 92, 570, 574, 576, and 903 as follows:

PART 5—GENERAL HUD PROGRAM REQUIREMENTS; WAIVERS

Subpart A—Generally Applicable Definitions and Requirements; Waivers

1. The authority citation for part 5, subpart A, continues to read as follows:

Authority: 29 U.S.C. 794, 42 U.S.C. 1437a, 1437c, 1437c-1(d), 1437d, 1437f, 1437n, 3535(d), and Sec. 327, Pub. L. 109-115, 119 Stat. 2936; 42 U.S.C. 3600-3620; 42 U.S.C. 5304(b); 42 U.S.C. 12101 et seq.; 42 U.S.C. 12704-12708; Executive Order 11063, 27 FR 11527, 3 CFR, 1958-1963 Comp., p. 652; Executive Order 12892, 59 FR 2939, 3 CFR, 1994 Comp., p. 849.

2. Revise § 5.150 to read as follows:

§ 5.150 Affirmatively Furthering Fair Housing: Definitions.

(a) The phrase “fair housing” in 42 U.S.C. 5304(b)(2), 5306(d)(7)(B), 12705(b)(15), and 1437c-1(d)(16) means housing that, among other attributes, is affordable, safe, decent, free of unlawful discrimination, and accessible as required under civil rights laws.

(b) The phrase “affirmatively further” in 42 U.S.C. 5304(b)(2), 5306(d)(7)(B), 12705(b)(15), and 1437c-1(d)(16) means to take any action rationally related to promoting any attribute or attributes of fair housing as defined in the preceding subsection.

3. Revise § 5.151 to read as follows:

§ 5.151 Affirmatively Furthering Fair Housing: AFFH Certifications.

A HUD program participant's certification that it will affirmatively further fair housing is sufficient if the participant takes, in the relevant period, any action that is rationally related to promoting one or more attributes of fair housing as defined in section 5.150(a). Nothing in this paragraph relieves jurisdictions of their other obligations under civil rights and fair housing statutes and regulations.

§§ 5.152 [Removed and Reserved]

4. Remove and reserve §§ 5.152.

PART 91—CONSOLIDATED SUBMISSIONS FOR COMMUNITY PLANNING AND DEVELOPMENT PROGRAMS

5. The authority citation for part 91 continues to read as follows:

Authority: 42 U.S.C. 3535(d), 3601-3619, 5301-5315, 11331-11388, 12701-12711, 12741-12756, and 12901-12912.

§ 91.205 [Amended]

6. Amend § 91.205 by removing and reserving paragraph (b)(2).

7. Amend § 91.225 by revising paragraph (a)(1) to read as follows:

§ 91.225 Certifications.

(a) * * *

(1) Affirmatively furthering fair housing. Each jurisdiction is required to submit a certification that it will affirmatively further fair housing. This includes certification that the grantee will affirmatively further fair housing, consistent with §§ 5.150 and 5.151 of this title.

* * * * *

8. Revise § 91.230 to read as follows:

§ 91.230 Monitoring.

The plan must describe the standards and procedures that the jurisdiction will use to monitor activities carried out in furtherance of the plan and will use to ensure long-term compliance with requirements of the programs involved, including civil rights related program requirements and the comprehensive planning requirements.

9. Amend § 91.235 by revising paragraphs (c)(1) and (4) to read as follows:

§ 91.235 Special case; abbreviated consolidated plan.

* * * * *

(c) * * *

(1) Assessment of needs, resources, and planned activities. An abbreviated plan must contain sufficient information about needs, resources, and planned activities to address the needs to cover the type and amount of assistance anticipated to be funded by HUD.

* * * * *

(4) Submissions, certifications, amendments, and performance reports. An Insular Area grantee that submits an abbreviated consolidated plan under this section must comply with the submission, certification, amendment, and performance report requirements of § 570.440 of this title. This includes certification that the grantee will affirmatively further fair housing, consistent with §§ 5.150 and 5.151 of this title.

* * * * *

§ 91.305 [Amended]

10. Amend § 91.305 by removing and reserving paragraph (b)(2).

11. Amend § 91.325 by revising paragraph (a)(1) to read as follows:

§ 91.325 Certifications.

(a) * * *

(1) Affirmatively furthering fair housing. Each State is required to submit a certification that the grantee will affirmatively further fair housing, consistent with §§ 5.150 and 5.151 of this title.

* * * * *

12. Amend § 91.425 by revising paragraph (a)(1)(i) to read as follows:

§ 91.425 Certifications.

(a) * * *

(1) * * *

(i) Affirmatively furthering fair housing. Each consortium must submit a certification that it will affirmatively further fair housing, consistent with §§ 5.150 and 5.151 of this title.

* * * * *

PART 92—HOME INVESTMENT PARTNERSHIPS PROGRAM

13. The authority citation for part 92 continues to read as follows:

Authority: 42 U.S.C. 3535(d), and 12701-12839, 12 U.S.C. 1701x.

14. Amend § 92.508 by revising paragraph (a)(7)(i)(B) to read as follows:

§ 92.508 Recordkeeping.

(a) * * *

(7) * * *

(i) * * *

(B) Documentation that the participating jurisdiction submitted a certification that it will affirmatively further fair housing, consistent with §§ 5.150 and 5.151 of this title.

* * * * *

PART 570—COMMUNITY DEVELOPMENT BLOCK GRANTS

15. The authority citation for part 570 continues to read as follows:

Authority: 12 U.S.C. 1701x, 1701x-1; 42 U.S.C. 3535(d) and 5301-5320.

16. Amend § 570.487 by revising paragraph (b) to read as follows:

§ 570.487 Other applicable laws and related program requirements.

* * * * *

(b) Affirmatively furthering fair housing. Each State is required to submit a certification that it will affirmatively further fair housing, consistent with §§ 5.150 and 5.151 of this title. Each unit of general local government is required to submit a certification that it will affirmatively further fair housing, consistent with §§ 5.150 and 5.151 of this title.

* * * * *

17. Amend § 570.490 by:

a. In paragraph (a)(1), removing the word “gender” and adding, in its place, the word “sex”; and

b. Revising paragraph (b).

The revision reads as follows:

§ 570.490 Recordkeeping requirements.

* * * * *

(b) Unit of general local government's record. The State shall establish recordkeeping requirements for units of general local government receiving CDBG funds that are sufficient to facilitate reviews and audits of such units of general local government under §§ 570.492 and 570.493. For fair housing and equal opportunity purposes, whereas such data is already being collected and where applicable, such records shall include data on the racial, ethnic, and sex characteristics of persons who are applicants for, participants in, or beneficiaries of the program.

* * * * *

18. Amend § 570.506 by revising paragraph (g)(1) to read as follows:

§ 570.506 Records to be maintained.

* * * * *

(g) * * *

(1) Documentation that the recipient submitted a certification that it will affirmatively further fair housing, consistent with §§ 5.150 and 5.151 of this title.

* * * * *

19. Amend § 570.601 by revising paragraph (a)(2) to read as follows:

§ 570.601 Public Law 88-352 and Public Law 90-284; affirmatively furthering fair housing; Executive Order 11063.

(a) * * *

(2) Public Law 90-284, which is the Fair Housing Act (42 U.S.C. 3601-3620). In accordance with the Fair Housing Act, the Secretary requires that grantees administer all programs and activities related to housing and urban development in a manner to affirmatively further the policies of the Fair Housing Act. Each community receiving a grant under subpart D of this part, shall submit a certification that it will affirmatively further fair housing, consistent with §§ 5.150 and 5.151 of this title.

* * * * *

PART 574—HOUSING OPPORTUNITIES FOR PERSONS WITH AIDS

20. The authority citation for part 574 continues to read as follows:

Authority: 12 U.S.C. 1701x, 1701x-1; 42 U.S.C. 3535(d) and 5301-5320.

21. Amend § 574.530 by revising paragraph (b) to read as follows:

§ 574.530 Recordkeeping.

* * * * *

(b) Documentation that the grantee submitted a certification that it will affirmatively further fair housing, consistent with §§ 5.150 and 5.151 of this title.

* * * * *

PART 576—EMERGENCY SOLUTIONS GRANTS PROGRAM

22. The authority citation for part 576 continues to read as follows:

Authority: 12 U.S.C. 1701x, 1701x-1; 42 U.S.C. 11371 et seq., 42 U.S.C. 3535(d).

23. Amend § 576.500 by revising paragraph (s)(1)(ii) to read as follows:

§ 576.500 Recordkeeping and reporting requirements.

* * * * *

(s) * * *

(1) * * *

(ii) Documentation that the recipient submitted a certification that it will affirmatively further fair housing, consistent with §§ 5.150 and 5.151 of this title.

* * * * *

PART 903—PUBLIC HOUSING AGENCY PLANS

24. The authority citation for part 903 continues to read as follows:

Authority: 42 U.S.C. 1437c; 42 U.S.C. 1437c-1; Pub. L. 110-289; 42 U.S.C. 3535d.

25. Amend § 903.7 by revising paragraph (o) to read as follows:

§ 903.7 What information must a PHA provide in the Annual Plan?

* * * * *

(o) Civil rights certification. (1) The PHA must certify that it will carry out its plan in conformity with title VI of the Civil Rights Act of 1964 (42 U.S.C. 2000d—2000d-4), the Fair Housing Act (42 U.S.C. 3601-19), section 504 of the Rehabilitation Act of 1973 (29 U.S.C. 794), title II of the Americans with Disabilities Act of 1990 (42 U.S.C. 12101 et seq.), and other applicable Federal civil right laws, and that it will affirmatively further fair housing, consistent with §§ 5.150 and 5.151 of this title.

(2) The certification is applicable to both the 5-Year Plan and the Annual Plan, including any plan incorporated therein.

* * * * *

26. Amend § 903.15 by revising paragraph (c)(3)(i)(A) to read as follows:

§ 903.15 What is the relationship of the public housing agency plans to the Consolidated Plan and a PHA's Fair Housing Requirements?

* * * * *

(c) * * *

(3) * * *

(i) * * *

(A) Fails to meet the affirmatively furthering fair housing requirements at 24 CFR 5.150 through 5.151.

* * * * *

27. Amend § 903.23 by revising paragraph (f) to read as follows:

§ 903.23 What is the process by which HUD reviews, approves, or disapproves an Annual Plan?

* * * * *

(f) Recordkeeping. PHAs must maintain records reflecting a certification that the PHA will affirmatively further fair housing, consistent with §§ 5.150 and 5.151 of this title.

Scott Turner,
Secretary.

[FR Doc. 2025-03360 Filed 2-28-25; 8:45 am]

BILLING CODE 4210-67-P